DEPARTMENT OF THE INTERIOR

National Park Service

[NPS-WASO-NAGPRA-NPS0037007; PPWOCRADN0-PCU00RP14.R50000]

Notice of Inventory Completion: Peabody Museum of Archaeology and Ethnology, Harvard University, Cambridge, MA

AGENCY: National Park Service, Interior.

ACTION: Notice.

SUMMARY: In accordance with the Native American Graves Protection and Repatriation Act (NAGPRA), the Peabody Museum of Archaeology and Ethnology, Harvard University (PMAE) has completed an inventory of human remains and has determined that there is a cultural affiliation between the human remains and Indian Tribes or Native Hawaiian organizations in this notice. The human remains were collected at Fort Totten in Benson County, ND, Pierre Indian School in Hughes County, SD, “Standing Rock School” in Fort Yates, Sioux County, ND, and “U.S. Indian School” (now Flandreau Indian School) in Flandreau, Moody County, SD.

DATES: Repatriation of the human remains in this notice may occur on or after January 4, 2024.

ADDRESSES: Jane Pickering, Peabody Museum of Archaeology and Ethnology, Harvard University, 11 Divinity Avenue, Cambridge, MA 02138, telephone (617) 496-2374, email jpickering@fas.harvard.edu.

SUPPLEMENTARY INFORMATION: This notice is published as part of the National Park Service's administrative responsibilities under NAGPRA. The determinations in this notice are the sole responsibility of the PMAE. The National Park Service is not responsible for the determinations in this notice. Additional information on the determinations in this notice, including the results of consultation, can be found in the inventory or related records held by the PMAE.

Description

Human remains representing, at minimum, 52 individuals, were collected at Fort Totten in Benson County, ND. The human remains are hair clippings collected from one individual recorded as 69 years old, one individual recorded as 67 years old, one individual recorded as 66 years old, one individual recorded as 62 years old, two individuals recorded as 61 years old, two individuals recorded as 56 years old, one individual recorded as 55 years old, two individuals recorded as 52 years old, two individuals recorded as 50 years old, one individual recorded as 49 years old, one individual recorded as 48 years old, one individual recorded as 46 years old, one individual recorded as 35 years old, one individual recorded as 33 years old, one individual recorded as 32 years old, one individual recorded as 29 years old, one individual recorded as 27 years old, one individual recorded as 26 years old, one individual recorded as 24 years old, one individual recorded as 23 years old, one individual recorded as 21 years old, one individual recorded as 18 years old, two individuals recorded as 16 years old, one individual recorded as 15 years old, four individuals recorded as 13 years old, six individuals recorded as 12 years old, two individuals recorded as 11 years old, five individuals recorded as 10 years old, four individuals recorded as 9 years old, one individual recorded as 8 years old, and one individual recorded as 3 years old. All these individuals were identified as “Sioux.” Orrin C. Gray took the hair clippings at Fort Totten between 1930 and 1933. Gray sent the hair clippings to George Woodbury, who donated the hair clippings to the PMAE in 1935. No associated funerary objects are present.

Human remains representing, at minimum, four individuals, were collected at the Pierre Indian School in Hughes County, SD. The human remains are hair clippings collected from one individual recorded as 19 years old, one individual recorded as 14 years old, and two individuals recorded as 13 years old. All these individuals were identified as “Sioux.” C.B. Dickinson took the hair clippings at the Pierre Indian School between 1930 and 1933. Dickinson sent the hair clippings to George Woodbury, who donated the hair clippings to the PMAE in 1935. No associated funerary objects are present.

Human remains representing, at minimum, one individual, from the “Standing Rock School” at Fort Yates in Sioux County, ND. The human remains are hair clippings collected from one individual recorded as 25 years old and identified as “Sioux.” E. D. Mossman took the hair clippings at the “Standing Rock School” between 1930 and 1933. Mossman sent the hair clippings to George Woodbury, who donated the hair clippings to the PMAE in 1935. No associated funerary objects are present.

Human remains representing, at minimum, four individuals, were collected at the “U.S. Indian School” (now Flandreau Indian School) in Flandreau, Moody County, SD. The human remains are hair clipping collected from one individual recorded as 20 years old, two individuals recorded as 18 years old, and one individual recorded as 17 years old. All these individuals were identified as “Sioux.” George E. Peters took the hair clippings at the “U.S. Indian School” (now Flandreau Indian School) between 1930 and 1933. Peters sent the hair clippings to George Woodbury, who donated the hair clippings to the PMAE in 1935. No associated funerary objects are present.

Cultural Affiliation

The human remains in this notice are connected to one or more identifiable earlier groups, tribes, peoples, or cultures. There is a relationship of shared group identity between the identifiable earlier groups, tribes, peoples, or cultures and one or more Indian Tribes or Native Hawaiian organizations. The following types of information were used to reasonably trace the relationship: kinship and anthropological.

Determinations

Pursuant to NAGPRA and its implementing regulations, and after consultation with the appropriate lineal descendants, Indian Tribes, and Native Hawaiian organizations, the PMAE has determined that:

• The human remains described in this notice represent the physical remains of 61 individuals of Native American ancestry.

• There is a relationship of shared group identity that can be reasonably traced between the human remains described in this notice and the Sisseton-Wahpeton Oyate of the Lake Traverse Reservation, South Dakota and the Spirit Lake Tribe, North Dakota.

Requests for Repatriation

Written requests for repatriation of the human remains in this notice must be sent to the Responsible Official identified in ADDRESSES. Requests for repatriation may be submitted by:

1. Any one or more of the Indian Tribes identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after January 4, 2024. If competing requests for repatriation are received, the PMAE must determine the most appropriate requestor prior to repatriation. Requests for joint repatriation of the human remains are considered a single request and not competing requests. The PMAE is responsible for sending a copy of this notice to the Indian Tribes identified in this notice.

Authority: Native American Graves Protection and Repatriation Act, 25 U.S.C. 3003, and the implementing regulations, 43 CFR 10.9, § 10.10, and § 10.14.

Dated: November 28, 2023.
Melanie O'Brien,
Manager, National NAGPRA Program.

[FR Doc. 2023-26613 Filed 12-4-23; 8:45 am]

BILLING CODE 4312-52-P